FEDERAL RESERVE SYSTEM

Formations of, Acquisitions by, and Mergers of Bank Holding Companies; Correction

This notice corrects a notice (FR Doc. 03-10563) published on pages 22703 and 22704 of the issue for Wednesday, April 30, 2003.

Under the Federal Reserve Bank of Kansas City heading, the entry for Gemini Bancshares, Inc., Monument, Colorado, is revised to read as follows:

A. Federal Reserve Bank of Kansas City (James Hunter, Assistant Vice President) 925 Grand Avenue, Kansas City, Missouri 64198-0001:

1. Central Financial Corporation, Hutchinson, Kansas to acquire up to 17.45 percent of the voting shares of Gemini Bancshares, Inc., Monument, Colorado, and thereby indirectly acquire voting shares of Integrity Bank & Trust, Monument, Colorado.

Comments on this application must be received by May 27, 2003.

Board of Governors of the Federal Reserve System, April 30, 2003.
Robert deV. Frierson,
Deputy Secretary of the Board.

[FR Doc. 03-11044 Filed 5-2-03; 8:45 am]

BILLING CODE 6210-01-S